DEPARTMENT OF TRANSPORTATION

Maritime Administration

[Docket Number MARAD-2024-0101]

Updated Notice of Availability for the Arthur Kill Terminal Programmatic Agreement Under Section 106 of the National Historic Preservation Act

AGENCY: Maritime Administration, Department of Transportation.

ACTION: Notice of availability and request for comment.

SUMMARY: The Maritime Administration (MARAD) is funding the Arthur Kill Offshore Wind Terminal Project (Project) which will develop an offshore wind staging and assembly port in Staten Island, New York to facilitate the development of offshore wind farms in the New York Bight. In accordance with the National Historic Preservation Act (NHPA) and its implementing regulations, MARAD has determined that a Programmatic Agreement (Agreement) must be prepared in accordance with the requirements of the NHPA in conjunction with the Project and invites public comments on the Agreement.

DATES: All comments on the Agreement are due on or before September 23, 2024. MARAD will consider comments filed after this date to the extent practicable.

ADDRESSES: To ensure that you do not duplicate your docket submissions, please submit all comments by only one of the following ways:

• Federal eRulemaking Portal: Go to https://www.regulations.gov, insert the docket number (MARAD-2024-0101) in the keyword box and click “Search.” Select the “Docket” tab, locate the Notice, and click on “comment” to begin the comment submission process. Follow the online instructions.

• Mail: Dockets Management Facility, U.S. Department of Transportation, 1200 New Jersey Avenue SE, West Building Ground Floor, Washington, DC 20590-0001.

• Hand Delivery: W12-l40 of the Department of Transportation, 1200 New Jersey Avenue SE, Washington, DC 20590 between 9:00 a.m. and 5:00 p.m. E.T., Monday through Friday, except Federal Holidays. The telephone number is 202-366-9329.

• Instructions: To properly identify your comments, please include the agency name and the docket number at the beginning of your comments. All comments received will be posted without change to https://www.regulations.gov, including any personal information provided.

FOR FURTHER INFORMATION CONTACT: Wendy Coble, (202) 366-5088 or via email at marad.history@dot.gov. Persons who use a telecommunications device for the deaf (TDD) may call the Federal Information Relay Service (FIRS) at 1-800-877-8339 to contact the above individual during business hours. The FIRS is available twenty-four hours a day, seven days a week, to leave a message or question. You will receive a reply during normal business hours. You may send mail to the Department of Transportation, Maritime Administration, 1200 New Jersey Avenue SE, Washington, DC 20590-0001.

SUPPLEMENTARY INFORMATION:

Background

The U.S. Department of Transportation (DOT) awarded funds to the New York State Urban Development Corporation d/b/a Empire State Development under the Fiscal Year 2022 Port Infrastructure Development Program for construction of the Arthur Kill Terminal. The project is located on Staten Island, New York.

The project proposes to develop an offshore win staging and assembly port in Staten Island, New York to facilitate the development of offshore wind farms in the New York Bight (the “Project”). The project entails the construction of an approximately 32.5-acre port facility and an approximately 18-acre ship basin along the Arthur Kill waterfront in Staten Island to include the following:

• Dredging of an approximately 18-acre navigable Dredge Basin to a depth of -35 dredge bottom plus 1′ of allowable over dredge to allow cargo vessels to access the berths at the proposed facility.

• Construction of a port facility with a 1,365 linear foot (lf) quay, an approximately 28.5-acre laydown and storage area upland of the quay, as well as a two-story (48-foot-tall including mechanical bulkhead) tenant building located at the northeast corner of the Project Site containing warehouse space (for tools, spare parts, and consumables) and accessory office space, totaling approximately 22,472 gross square feet (gsf), with 111 accessory parking spaces, and the adaptive reuse of an existing two-story (33-foot-tall) 4,212 gsf residential structure (the “Cole House”) at the southeast corner of the site as a visitor center and owner office with 12 accessory parking spaces;

MARAD has defined the Project's area of potential effects (APE) as the boundary of the property upon which the Arthur Kill terminal will be constructed, totaling approximately 32.5 acres, of which approximately 23.6 acres are upland area, 3.31 acres are freshwater wetlands, and 8.9 acres are submerged lands between the shoreline and Federal Bulkhead Line.

Identification of Historic Properties

The analysis conducted for this project included revisiting previously collected archaeological data, additional research, and site investigations. This work concluded that two previously identified multicomponent sites are single component sites. One of those sites, the Area 1 West Site, contained some Precontact cultural material at disparate locations and all the colonial period artifacts, save two, were found in contexts with more recent disturbances. The Precontact period component of the other multicomponent site, the Dissoway/Totten/Starr Site, was previously dismissed as fill, as were two of the suspected foundation segments. However, it is possible other structural remains of the house site remain beneath the fill.

The final previously identified site is the Catbriar Site, dating to the late Middle Woodland period (circa A.D. 800-A.D.1000) and the late Bowmans Brook—early Clasons Point period (circa A.D. 1200-A.D. 1400), based on recovery pottery sherds. However, many of those sherds also exhibited erosion and fragmentation which are potentially indicative of exposure and/or churning. Therefore, these pieces may have derived from disturbed contexts. The presence of fill at the Catbriar Site is suspected based on geotechnical evaluation and prior descriptions of the site as being in a plow zone. To determine if this is a true site or if it is merely a pervasive fill deposit, additional site investigations will be needed. If a site exists, even preserved beneath fill, then it is possible the Area 1 West Precontact Site may be part of the Catbriar Site based on proximity. The New York State Historic Preservation Office (SHPO) has indicated that all three sites are eligible or likely eligible for listing on the Nation Register of Historic Places.

No other potentially significant sites were identified during this research, and no further archaeological work beyond the three previously identified sites is recommended. The offshore portions of the project area were assessed, and archaeological potential is low in the tidal flats which will be filled and absent in the deeper waters which will be dredged.

Affected Historic Properties

Archaeological work was conducted at the Arthur Kill Terminal property when it was under development by a previous project sponsor for a different purpose. That work included three episodes of archaeological field investigations and multiple reports which were reviewed by the New York State Historic Preservation Office (SHPO) and the New York City Landmarks Preservation Commission (LPC). The earlier work encompassed only the upland portions of the AKT property. Archaeological fieldwork included approximately 750 shovel test pits, 5 backhoe trenches, and 5 excavation units. The excavation produced over 5000 artifacts, with about 15% of those dating to the Precontact period.

Most of the artifacts previously recovered came from three loci which were identified as potentially significant archaeological sites. These were called the Catbriar Site, the Area 1 West Site, and the Dissoway/Totten/Starr Site. The Catbriar Site is a Precontact period site. The Area 1 West Site has both Precontact and historic period components, and the Dissoway/Totten/Starr Site is a historic site originally thought to also contain a Precontact site.

The Catbriar and Area 1 West Sites are in the northern tier of tier of the AKT property, approximately 250 feet from Outerbridge Crossing southward. The Dissoway/Totten/Starr Site is located approximately 2250 feet south of the other two sites. All three sites are within Block 7620. The SHPO has indicated that all three sites are either eligible or likely eligible for listing on the Nation Register of Historic Places.

Project Impacts on Historic Properties

The Catbriar Site may be affected by ground improvement along its southern side and by cutting in most of the remainder of the site up to 15 feet (5 m). The Area 1 West Site will primarily be covered with 0-15 feet (0-5 m) of fill but will also have two storm drainage lines crossing the area. The Dissoway/Totten/Starr Site will also be filled with 2-10 feet (1-3 m) of material and will contain one storm drainage line.

Adverse Effects, Avoidance, Minimization and Mitigation

MARAD, in coordination with SHPO, determined that this project would require the development of a Programmatic Agreement to address the potential for adverse effects. As of this public notice, MARAD, SHPO, Empire State Development, Delaware Nation, Delaware Tribe of Indians, Shinnecock Indian Nation and Stockbridge-Munsee Community have all agreed to be signatories to the Agreement; New York City Landmarks Preservation Commission (NYCLPC) and Arthur Kill Terminal LLC will be concurring parties. The draft Agreement is available for review by going to www.regulations.gov, and search using docket number “MARAD-2024-0101.” An Archaeological Work Plan (AWP) to address the potential for the Project to adversely effect the Catbriar Site, Area 1 West Precontact Site, and the Dissoway/Totten/Starr Site has also been prepared in consultation with SHPO and NYCLPC.

Catbriar Site

The AWP requires two separate archaeological hand excavation units to be placed in the areas of highest density of cultural material previously recovered from testing at the site, which measures approximately 10 x 20 feet (3 x 6 meters (m)) in area, to look for intact strata with additional cultural remains and to determine if any features are present in those locations which may relate to the site. The two archaeological hand excavation units will be 3-foot (approximately 1 m) square excavations units each and will be excavated stratigraphically. If the identified strata are greater than 4 inches (10 cm), the excavation will be conducted arbitrarily in 4-inch (10 cm) levels. All soil will be screened for the recovery of cultural material. The work will be recorded on forms, mapped on the site drawing, and measured field drawings will be done of significant resources and selected unit profiled, at least one from each unit. Soils will be described using the Munsell Soil Color Charts and soil textures will be recorded. Photographs will be taken as appropriate. Artifacts will be recovered by provenience. Excavation will continue to either the depth of intact strata or 4 feet (122 centimeters (cm)), whichever is encountered first.

Should no intact strata be encountered in the units, the AWP requires either additional borings or backhoe trenching to identify the depth of fill in the recorded site area. The additional work to be done will be determined by an on-site archaeologist.

If intact strata are identified, then additional excavation will be recommended to determine the extent of the intact deposits and if any archaeological features are present. If that is the case and artifacts are retained, that additional recommendation will also include a curation plan.

If it is determined during this survey that the Catbriar Site cannot be avoided and there are intact deposits associated with the Catbriar Site encountered, a plan will be developed for Phase 3 Data Recovery.

Area 1 West Site

Should the work at the Catbriar Site conclude intact strata containing Precontact period cultural material exists, then the footprint of the Area 1 West Site will be included as part of the recommendations for additional investigations to define the extent of the Catbriar Site. Should utility excavation of the Area 1 West Site penetrate the fill, excavation would be monitored.

Dissoway/Totten/Starr Site

As currently proposed, the Project will cover this site in fill. However, there may be plans to penetrate the fill during excavation for utilities. Should construction include plans to penetrate fill at this site, then archaeological monitoring of utility excavation is recommended to identify any potential structural remains or features associated with the historic occupation of the property. Should utility excavation at Dissoway/Totten/Starr Site penetrate fill, excavation would be monitored.

Public Participation

MARAD may provide additional information and documents concerning the project. This information, along with any comments received, can be found at the above docket number. Please check the notice specific docket for this information. It is requested that all public comments be submitted for consideration within 45 calendar days from the posting of this notice.

If you submit a comment, please include the docket number for this notice, indicate the specific section of this document to which each comment applies, and provide a reason for each suggestion or recommendation. You may submit your comments and material online as described in the ADDRESSES section above. MARAD recommends that you include your name and a mailing address, an email address, or a phone number in the body of your document so that MARAD can contact you if there are questions regarding your submission.

In accordance with 49 U.S.C. 31315(b)(6), DOT solicits comments from the public on the exemption requests. DOT posts these comments, without edit, including any personal information the commenter provides, to www.regulations.gov. As described in the system of records notice DOT/ALL 14 (Federal Docket Management System), which can be reviewed at https://www.transportation.gov/individuals/privacy/privacy-act-system-records-notices, the comments are searchable by the name of the submitter. Anyone can search the electronic form of all comments received into any of our dockets by the name of the individual submitting the comment (or signing the comment, if submitted on behalf of an association, business, labor union, etc.). For information on DOT's compliance with the Privacy Act, please visit https://www.transportation.gov/privacy.

(Authority: 49 CFR 1.81 and 1.93; 36 CFR part 800; 5 U.S.C. 552b.)

By Order of the Maritime Administrator.
T. Mitchell Hudson, Jr.,
Secretary, Maritime Administration.

[FR Doc. 2024-17676 Filed 8-8-24; 8:45 am]

BILLING CODE 4910-81-P